DEPARTMENT OF THE INTERIOR

Bureau of Land Management

[CA-668-05-1220-PM]

Restrictions on Recreational Use of Public Lands

AGENCY: Bureau of Land Management, Interior.

ACTION: Notice, Issuance of Restriction Orders.

SUMMARY: Notice is hereby given that the Bureau of Land Management has issued orders pursuant to 43 CFR 8364.1 that restrict the launching and landing of hang gliders and similar aircraft, the discharge of gas- and air-powered weapons and simulated weapons, recreational shooting, and entry with pets on all or certain public lands in the Santa Rosa and San Jacinto Mountains National Monument, Riverside County, California, to protect resources and enhance visitor safety.

DATES: The hang gliding restriction became effective February 2, 2005. Restrictions pertaining to the discharge of gas- and air-propelled weapons, recreational shooting, and entry with pets became effective March 24, 2005.

ADDRESSES: Santa Rosa and San Jacinto Mountains National Monument, Palm Springs-South Coast Field Office, Bureau of Land Management, 690 West Garnet Ave., P.O. Box 581260, North Palm Springs, CA 92258-1260.

FOR FURTHER INFORMATION CONTACT: Jim Foote, Outdoor Recreation Planner, telephone 760-251-4800, e-mail jfoote@ca.blm.gov.

SUPPLEMENTARY INFORMATION: Hang Gliding. Launches of hang gliders, paragliders, ultralights, and similar aircraft from, and landing on, public lands within and adjacent to essential habitat for Peninsular Ranges bighorn sheep in the Santa Rosa and San Jacinto Mountains National Monument are prohibited.

The purpose of the prohibition is to protect the distinct vertebrate population segment of bighorn sheep occupying the Peninsular Ranges of southern California from potential adverse impacts that may result from the launching and landing of hang gliders and similar aircraft. This population of bighorn sheep was listed as endangered by the U.S. Fish and Wildlife Service on March 18, 1998 (63 FR 13134), pursuant to the Endangered Species Act of 1973, as amended.

This prohibition includes launches from public lands at the Vista Point roadside pullout on California Highway 74, as well as landings on public lands at or near the National Monument Visitor Center, also on California Highway 74.

The use of mechanical transport, including hang gliders, is already prohibited in wilderness managed by BLM (43 CFR 6302.20(d) and (e); 6301.5). The prohibition of hang gliders on public lands in wilderness within the National Monument is, therefore, applicable throughout the Santa Rosa Wilderness, whether inside or outside essential habitat for Peninsular Ranges bighorn sheep.

Launches and landings of hang gliders and similar aircraft are prohibited on the following public lands:

Santa Rosa Mountains—All public lands within the National Monument in southeast ¼ Township 4 South, Range 4 East; Township 5 South, Range 5 East; Township 6 South, Range 5 East; south ½ Township 5 South, Range 6 East; Township 6 South, Range 6 East outside the Santa Rosa Wilderness; west ½ Township 6 South, Range 7 East outside the Santa Rosa Wilderness; and Township 7 South, Range 7 East outside the Santa Rosa Wilderness, San Bernardino Meridian.

San Jacinto Mountains—All public lands within the National Monument in south ½ Township 3 South, Range 3 East; southwest ¼ Township 3 South, Range 4 East; west ½ Township 4 South, Range 4 East; and Township 5 South, Range 4 East, San Bernardino Meridian.

Discharge of Gas- and Air-powered Weapons. The discharge of gas- and air-propelled weapons and simulated weapons, including paintball and paintball-like weapons, is prohibited on public lands in the Santa Rosa and San Jacinto Mountains National Monument.

The purpose of the prohibition is to protect cultural, biological, and geological resources from defacement and damage resulting from the discharge of gas- and air-propelled and simulated weapons. Potential adverse impacts include the staining of cultural artifacts, plant materials, and exposed rock with paint from paint ball projectiles.

Recreational Shooting. Recreational shooting, except for hunting, but including target shooting, is prohibited on public lands in the Santa Rosa and San Jacinto Mountains National Monument.

The purpose of the prohibition is to protect cultural resources from damage resulting from their use as targets; protect wildlife from disruption of feeding, breeding, and other important behaviors; protect wildlife from direct mortality, and temporary or permanent abandonment of habitat, especially with regard to the endangered Peninsular Ranges bighorn sheep; and enhance visitor safety by minimizing potential for accidental shootings.

Hunting will continue to be permitted in accordance with California Department of Fish and Game regulations. Possession of firearms, however, is not permitted on Federal and nonfederal lands within the Santa Rosa Mountains State Game Refuge in accordance with state regulations.

Entry with Pets. All pets must be restrained by leashes not exceeding 10 feet in length while on public lands in the Santa Rosa and San Jacinto Mountains National Monument. Owners of pets are required to collect and properly dispose of their pet's fecal matter. Pets are allowed in designated areas only within essential habitat for Peninsular Ranges bighorn sheep.

The purpose of the leash and fecal collection requirements, and restriction of pets to designated areas in bighorn sheep habitat is to protect wildlife and enhance visitor enjoyment of the National Monument. The leash requirement reduces potential for harassment, chasing, and predation of wildlife by pets. It also protects visitors from unleashed aggressive pets, thereby enhancing visitor safety and enjoyment. Collection of a pet's fecal matter enhances visitor enjoyment by providing for an aesthetically pleasing setting. Persons using dogs to facilitate official search and rescue or law enforcement operations are exempt from these restrictions.

Designated pet areas will be identified through the Santa Rosa and San Jacinto Mountains Trails Plan element of the Coachella Valley Multiple Species Habitat Conservation Plan. Pending completion of the Habitat Conservation Plan, dogs are prohibited on public lands in the National Monument, with exceptions (65 FR 3473-3474, January 21, 2000).

The discharge of gas- and air-propelled weapons, recreational shooting, and entry with pets are prohibited or restricted on the following public lands:

Santa Rosa Mountains—All public lands within the National Monument in southeast ¼ Township 4 South, Range 4 East; Township 5 South, Range 5 East; Township 6 South, Range 5 East; east ½ Township 8 South, Range 5 East; south ½ Township 5 South, Range 6 East; Township 6 South, Range 6 East; Township 7 South, Range 6 East; Township 8 South, Range 6 East; west ½ Township 6 South, Range 7 East; Township 7 South, Range 7 East; Township 8 South, Range 7 East; and west ½ Township 8 South, Range 8 East, San Bernardino Meridian.

San Jacinto Mountains—All public lands within the National Monument in south ½ Township 3 South, Range 3 East; southwest 1/4 Township 3 South, Range 4 East; west ½ Township 4 South, Range 4 East; and Township 5 South, Range 4 East, San Bernardino Meridian.

The decision to prohibit hang gliding and similar activities, prohibit the discharge of gas- and air-propelled weapons and simulated weapons, prohibit recreational shooting, and restrict entry with pets was approved by BLM and U.S. Forest Service on February 5, 2004, in the Record of Decision for the Santa Rosa and San Jacinto Mountains National Monument Management Plan. The order prohibiting hang gliding activities was signed by the Field Manager, Palm Springs-South Coast Field Office, on February 2, 2005. The order prohibiting discharges of gas- and air-propelled weapons, prohibiting recreational shooting, and restricting entry with pets was signed by the Field Manager on March 24, 2005. Any person who fails to comply with these orders may be subject to the penalties provided in 43 CFR 8360.0-7, or the enhanced penalties provided for by 18 U.S.C. 3571.

Gail Acheson,
Field Manager.

[FR Doc. 05-14937 Filed 7-27-05; 8:45 am]

BILLING CODE 4310-40-P